DEPARTMENT OF ENERGY

Federal Energy Regulatory Commission

[Project No. 12619-002; Project No. 13363-000; Project No. 13364-000; Project No. 13366-000]

Cascade Creek, LLC; City and Borough of Wrangell, AK; Petersburg Municipal Power and Light; City of Angoon, AK; Notice of Competing Preliminary Permit Applications Accepted for Filing and Soliciting Comment, Motions To Intervene, and Competing Applications

February 18, 2009.

Cascade Creek, LLC (Cascade), City and Borough of Wrangell, Alaska (Wrangell), Petersburg Municipal Power and Light (Petersburg) and the City of Angoon, Alaska filed applications, pursuant to section 4(f) of the Federal Power Act, proposing to study the feasibility of the Ruth Lake Project, to be located on Ruth Lake and Delta Creek, in an unorganized Borough near Petersburg, Alaska. There are no existing facilities. The project would be located in the Tongass National Forest. All of these applications were filed electronically and given the filing date of February 3, 2009, at 8:30 a.m.

The proposed Ruth Lake Projects:

The proposed Ruth Lake Project by Cascade Creek, LLC for Project No. 12619-002 filed on February 3, 2009 at 8:30 a.m. would consist of: (1) A proposed 170-foot-high concrete arch dam at the exit of the natural Ruth Lake; (2) an existing reservoir having a surface area of 130 acres and a storage capacity of 17,000 acre-feet and normal water surface elevation of 1,527 feet mean sea level (msl); (3) a proposed 12,600-foot-long, 6 to 12-inch diameter combination bored tunnel and steel penstock; (4) a proposed powerhouse containing three new generating units having an installed capacity of 20 megawatts; (5) an existing 20-mile-long, 138 kilovolt transmission line; and (6) appurtenant facilities. The proposed Ruth Lake Project would have an average annual generation of 70 gigawatt-hours. Cascade is also exploring alternatives that would connect this project to their Cascade Creek Project, which they have preliminary permit for FERC No. 12495.

The proposed Ruth Lake Project by City and Borough of Wrangell, Alaska for Project No. 13363-000 filed on February 3, 2009 at 8:30 a.m. would consist of: (1) A proposed 170-foot-high concrete arch dam at the exit of the natural Ruth Lake; (2) an existing reservoir having a surface area of 130 acres and a storage capacity of 17,000 acre-feet and normal water surface elevation of 1,527 feet mean sea level (msl); (3) a proposed 12,600-foot-long, 6 to 12-foot diameter combination bored tunnel and steel penstock; (4) a proposed powerhouse containing three new generating units having an installed capacity of 20 megawatts; (5) an existing 20-mile-long, 138 kilovolt transmission line; and (6) appurtenant facilities. The proposed Ruth Lake Project would have an average annual generation of 70 gigawatt-hours.

The proposed Ruth Lake Project by Petersburg Municipal Power and Light for Project No. 13363-000 filed on February 3, 2009 at 8:30 a.m. would consist of: (1) A proposed 200-foot-high concrete faced rockfill dam at the exit of the natural Ruth Lake; (2) an existing reservoir having a surface area of 190 acres and a storage capacity of 17,000 acre-feet and normal water surface elevation of 1,560 feet mean sea level (msl); (3) a proposed 3,500-foot-long, 10-foot diameter tunnel and a 7,800-foot-long, 6-foot-diameter steel penstock; (4) a proposed powerhouse containing three new generating units having an installed capacity of 20 megawatts; (5) would connect directly to their distribution system; and (6) appurtenant facilities. The proposed Ruth Lake Project would have an average annual generation of 70 gigawatt-hours.

The proposed Ruth Lake Project by City of Angoon, Alaska for Project No. 13366-000 filed on February 3, 2009 at 8:30 a.m. would consist of: (1) A proposed 170-foot-high concrete arched dam at the exit of the natural Ruth Lake; (2) an existing reservoir having a surface area of 130 acres and a storage capacity of 17,000 acre-feet and normal water surface elevation of 1,527 feet mean sea level (msl); (3) a proposed 3,600-foot-long, 6 to 12-inch diameter combination bored tunnel and steel penstock; (4) a proposed powerhouse containing three new generating units having an installed capacity of 20 megawatts; (4) an existing 20-mile-long, 138 kilovolt transmission line; and (5) appurtenant facilities. The proposed Ruth Lake Project would have an average annual generation of 70 gigawatt-hours.

Applicants Contact: For Cascade Creek, LLC: Mr. Chris Spears, Cascade Creek, LLC, 3633 Alderwood Avenue, Bellingham, WA 98225, (360) 738-9999. For City and Borough of Wrangell, Alaska: Mr. Warren Edgley, City and Borough of Wrangell, Alaska, P.O. Box 531, Wrangell, AK 99929, (907) 874-2381. For Petersburg Municipal Electric & Light: Mr. Joe Nelson, Superintendent, Petersburg Municipal Electric & Light, P.O. Box 329, 11 South Nordic, Petersburg, AK 99833, (907) 772-4203. For the City of Angoon, Alaska: Mayor, Albert Howard, City of Angoon, Alaska, P.O. Box 189, Angoon, AK 99820, (907) 788-3653.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-12619-002, 13363-000, 13364, or P-13366) in the docket number field to access the document. For assistance, call toll-free 1-866-208-3372.

Kimberly D. Bose,
Secretary.

[FR Doc. E9-3971 Filed 2-24-09; 8:45 am]

BILLING CODE 6717-01-P